DEPARTMENT OF COMMERCE

International Trade Administration

[A-533-809]

Forged Stainless Steel Flanges from India: Notice of Initiation of Antidumping Duty New Shipper Review

AGENCY: Import Administration, International Trade Administration, Department of Commerce.

SUMMARY: The Department of Commerce (the Department) has received a request for a new shipper review of the antidumping duty order on certain forged stainless steel flanges (flanges) from India issued on February 9, 1994. See Amended Final Determination and Antidumping Duty Order; Certain Forged Stainless Steel Flanges from India, 59 FR 5994 (February 9, 1994). In accordance with section 751(a)(2)(B) of the Tariff Act of 1930, as amended (the Act), and 19 CFR 351.214(d) (2005), we are initiating an antidumping new shipper review of Hot Metal Forge (India) Pvt., Ltd. (Hot Metal). The period of review (POR) of this new shipper review is February 1, 2007 through July 31, 2007.

EFFECTIVE DATE: October 4, 2007.

FOR FURTHER INFORMATION CONTACT: Fred Baker, Michael Heaney, or Robert James, AD/CVD Operations, Office 7, Import Administration, International Trade Administration, U.S. Department of Commerce, 14th Street and Constitution Avenue, NW, Washington, DC 20230, telephone: (202) 482-2924, (202) 482-4475, or (202) 482-0649, respectively.

SUPPLEMENTARY INFORMATION:

Background

In accordance with section 751(a)(2)(B) of the Act and 19 CFR 351.214(c), the Department received a timely request from Hot Metal, a producer and exporter of flanges, for a new shipper review of the antidumping duty order on flanges from India. See August 31, 2007, letter from Hot Metal to the Secretary of Commerce requesting a new shipper review.

Pursuant to section 751(a)(2)(B)(i) of the Act and 19 CFR 351.214(b), Hot Metal certified that it is both an exporter and producer of the subject merchandise, that it did not export subject merchandise to the United States during the period of the investigation (POI) (July 1, 1992 through December 31, 1992), and that since the investigation was initiated, it has not been affiliated with any producer or exporter who exported the subject merchandise to the United States during the POI. It also submitted documentation establishing the date on which it first shipped the subject merchandise to the United States, the volume of that shipment, and the date of its first sale to an unaffiliated customer in the United States. It also certified it had no shipments to the United States during the period subsequent to its first shipment.

The Department conducted a Customs database query in an attempt to confirm that Hot Metal's shipments of subject merchandise entered the United States for consumption and that liquidation of such entries had been suspended for antidumping duties. See October 1, 2007 New Shipper Review Initiation Checklist, question 18. The Department also examined whether the U.S. Customs and Border Protection (CBP) confirmed that such entries were made during the new shipper review POR.

Initiation of Review

In accordance with section 751(a)(2)(B) of the Act and section 351.214(d) of the Department's regulations, we find that the request Hot Metal submitted meets the threshold requirement for initiation of a new shipper review. Accordingly, we are initiating a new shipper review of the antidumping duty order on flanges from India manufactured and exported by Hot Metal. This review covers the period February 1, 2007, through July 31, 2007. We intend to issue the preliminary results of this review no later than 180 days after the date on which this review is initiated, and the final results within 90 days after the date on which we issue the preliminary results. See section 751(a)(2)(B)(iv) of the Act.

On August 17, 2006, the Pension Protection Act of 2006 (H.R. 4) was signed into law. Section 1632 of H.R. 4 temporarily suspends the authority of the Department to instruct U.S. CBP to collect a bond or other security in lieu of a cash deposit in new shipper reviews. Therefore, the posting of a bond under section 751(a)(2)(B)(iii) of the Act in lieu of a cash deposit is not available in this case. Importers of forged stainless steel flanges manufactured and exported by Hot Metal must continue to post cash deposits of estimated antidumping duties on each entry of subject merchandise (i.e., forged stainless steel flanges) at the current all-others rate of 162.14 percent.

Interested parties may submit applications for disclosure under administrative protective order in accordance with 19 CFR 351.305 and 351.306.

This initiation and this notice are issued and published in accordance with section 751(a)(2)(B) of the Act and sections 351.214 and 351.221(c)(1)(i) of the Department's regulations.

Dated: September 28, 2007.
Stephen J. Claeys,
Deputy Assistant Secretary for Import Administration.

[FR Doc. E7-19660 Filed 10-3-07; 8:45 am]

BILLING CODE 3510-DS-S